DEPARTMENT OF ENERGY

Civil Nuclear Credit Program: Guidance for the Second Award Period

AGENCY: Grid Deployment Office, U.S. Department of Energy.

ACTION: Notice of availability of guidance for the second award cycle of the civil nuclear credit program.

SUMMARY: The U.S. Department of Energy (DOE or the Department) announces the availability of the Guidance for the Second Award Cycle of the Civil Nuclear Credit (CNC) Program authorized under of the Infrastructure Investment and Jobs Act (IIJA). The Department is providing notification of the issuance of the U.S. Department of Energy Guidance for the Second Award Cycle of the Civil Nuclear Credit Program on SAM.gov. The Guidance describes the timelines, deliverables, and other requirements for owners or operators of eligible nuclear reactors that are projected to cease operations due to economic factors to submit certification applications to become certified nuclear reactors, and instructions on formulating and submitting sealed bids to receive credit allocations.

DATES: DOE invites eligible nuclear reactors to submit certification applications and sealed bids for credits starting on March 2, 2023 at SAM.gov. The last date for which certification applications and sealed bids will be received is May 31, 2023. DOE will announce conditional awards thereafter in accordance with the guidance. Application information and Bid submissions must be submitted at https://proposalscnc.inl.gov by 23:59 MT on May 31, 2023, or they will not be considered timely filed for the current Award Period and will not be evaluated.

ADDRESSES: Please see the Guidance posting at https://sam.gov/opp/c89f5456c69c46e99535558222ed53a1/view for contact information relating to certification applications and sealed bids. For information relating to the CNC Program, please see https://www.energy.gov/gdo/civil-nuclear-credit-program.

FOR FURTHER INFORMATION CONTACT: For more information regarding the CNC Program or Guidance please contact Theodore Taylor, (202) 586-4316, cnc_program_mailbox@hq.doe.gov.

SUPPLEMENTARY INFORMATION:

Background

Section 40323 of the Infrastructure Investment and Jobs Act (IIJA), Public Law 117-58, codified at 42 U.S.C. 18753, directs the Secretary of Energy to establish a CNC Program to evaluate and certify nuclear reactors that are projected to cease operations due to economic factors and to allocate credits to selected certified nuclear reactors via a sealed bid process. DOE published in the Federal Register, a Notice of Availability and Request for Comments regarding the Second Award Cycle of the Civil Nuclear Credit Program on October 6, 2022, to solicit public input into the CNC Program design (87 FR 60665). The Department used the responses to help inform its approach in creating the Guidance. The Guidance describes the CNC Program, program eligibility, certification criteria (including a Community Benefits Plan to advance environmental justice objectives) and bid submissions requirements for the second certification and bidding process.

Business Proprietary Information

Pursuant to 10 CFR 1004.11, any person submitting information believed to be business proprietary and exempt by law from public disclosure should submit via email two well-marked copies: One copy of the document marked “Business Proprietary” including all the information believed to be proprietary, and one copy of the document marked “non-Proprietary” deleting all information believed to be business proprietary. DOE will make its own determination about the business proprietary status of the information and treat it accordingly. Factors of interest to DOE when evaluating requests to treat submitted information as business proprietary include: (1) A description of the items; (2) whether and why such items are customarily treated as business proprietary within the industry; (3) whether the information is generally known by or available from other sources; (4) whether the information has previously been made available to others without obligation concerning its business proprietary nature; (5) an explanation of the competitive injury to the submitting person which would result from public disclosure; (6) when such information might lose its business proprietary character due to the passage of time; and (7) why disclosure of the information would be contrary to the public interest.

Signing Authority

This document of the Department of Energy was signed on March 3, 2023, by Maria D. Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 3, 2023.
Treena V. Garrett,
Federal Register Liaison Officer, U.S. Department of Energy.

[FR Doc. 2023-04760 Filed 3-7-23; 8:45 am]

BILLING CODE 6450-01-P